DEPARTMENT OF COMMERCE

Bureau of Industry and Security

In the Matter of: Bahram Maghazehe, a.k.a. Benjamin Maghazehe, a.k.a. Ben Maghazehe, 154 Sequoia Drive, Newtown, PA 18940, Respondent; Order Relating to Bahram Maghazehe a.k.a. Benjamin Maghazehe a.k.a. Ben Maghazehe

The Bureau of Industry and Security, U.S. Department of Commerce (“BIS”), has notified Bahram Maghazehe a.k.a. Benjamin Maghazehe a.k.a. Ben Maghazehe (“Maghazehe”) of its intention to initiate an administrative proceeding against Maghazehe pursuant to Section 766.3 of the Export Administration Regulations (the “Regulations”),¹ and Section 13(c) of the Export Administration Act of 1979, as amended (the “Act”),² through the issuance of a Proposed Charging Letter to Maghazehe that alleged that he committed one violation of the Regulations. Specifically, the charge is:

¹ The Regulations are currently codified in the Code of Federal Regulations at 15 CFR parts 730-774 (2011). The charged violation occurred in 2007. The Regulations governing the violations at issue are found in the 2007 version of the Code of Federal Regulations (15 CFR parts 730-774 (2007)). The 2011 Regulations set forth the procedures that apply to this matter.

² 50 U.S.C. app. 2401-2420 (2000). Since August 21, 2001, the Act has been in lapse and the President, through Executive Order 13222 of August 17, 2001 (3 CFR, 2001 Comp. 783 (2002)), which has been extended by successive Presidential Notices, the most recent being that of August 12, 2011 (76 FR 50,661 (Aug. 16, 2011)), has continued the Regulations in effect under the International Emergency Economic Powers Act (50 U.S.C. 1701, et seq.).

Charge 1 15 CFR 764.2(h)—Evasion

Beginning in or about February 2007 and continuing through in or about June 2007, Maghazehe engaged in a transaction or took other action with intent to evade the provisions of the Regulations.

Specifically, Maghazehe worked with a U.S. company to arrange for the export without a license from the United States through the United Arab Emirates to Iran of a Varian Ximatron oncology system, which was subject to the Regulations,³ and the Iranian Transactions Regulations (“ITR”) ⁴ and had a declared value of $5,000. Pursuant to Section 560.204 of the Iranian Transactions Regulations (“ITR”) maintained by the Department of the Treasury's Office of Foreign Assets Control (“OFAC”), an export to a third country intended for transshipment to Iran is a transaction that requires OFAC authorization. Pursuant to Section 746.7 of the Regulations, no person may engage in the exportation of an item subject to both the Regulations and the ITR without authorization from OFAC. No OFAC authorization was sought or obtained for the transaction described herein.

³ The item is designated as EAR99, which is a designation for items subject to the Regulations but not listed on the Commerce Control List. 15 CFR 734.3(c) (2007).

⁴ 31 CFR part 560 (2007).

Maghazehe had knowledge that a U.S. hospital was discarding the oncology system and that a company in Iran with which he had a business relationship wanted to acquire the equipment. To enable the delivery of the oncology system to the Iranian company, Maghazehe worked with a U.S. company to arrange for the de-installation and removal of the equipment from the U.S. hospital and the export of the equipment from the United States. Maghazehe informed the U.S. company that the oncology system was destined for Iran, and, on or about June 7, 2007, when asked by the U.S. company's representative if he wanted to make a “legal export,” indicated by shaking his head no that he did not want to do so. Maghazehe provided the U.S. company with a United Arab Emirates address, which he intended for the U.S. company to provide to the freight forwarder and for the freight forwarder to provide to the U.S. Government as the ultimate destination of the item, thereby obscuring the actual final destination of the equipment, Iran. These acts were taken to export the U.S.-origin equipment to Iran without the required U.S. Government authorization and avoid detection by law enforcement. Ultimately, the equipment was seized by the U.S. Government.

In so doing, Maghazehe committed one violation of Section 764.2(h) of the Regulations.

Whereas, BIS and Maghazehe have entered into a Settlement Agreement pursuant to Section 766.18(a) of the Regulations, whereby they agreed to settle this matter in accordance with the terms and conditions set forth therein; and

Whereas, I have approved of the terms of such Settlement Agreement;

It Is Therefore Ordered:

FIRST, that for a period of six (6) years from the date of entry of the Order, Bahram Maghazehe a.k.a. Benjamin Maghazehe a.k.a. Ben Maghazehe, with a last known address of 154 Sequoia Drive, Newtown, Pennsylvania 18940, and when acting for or on his behalf, his representatives, assigns, agents, or employees (hereinafter collectively referred to as “Denied Person”), may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to the Denied Person by affiliation, ownership, control, or position of responsibility in the conduct of trade or related services may also be made subject to the provisions of the Order.

Fourth, that the Proposed Charging Letter, the Settlement Agreement, and this Order shall be made available to the public.

Fifth, that this Order shall be served on Maghazehe and on BIS, and shall be published in the Federal Register.

This Order, which constitutes the final agency action in this matter, is effective immediately.

Issued this 22nd day of September, 2011.
Donald G. Salo, Jr.,
Acting Assistant Secretary of Commerce for Export Enforcement.

[FR Doc. 2011-24997 Filed 9-28-11; 8:45 am]

BILLING CODE P